DEPARTMENT OF COMMERCE

National Oceanic and Atmospheric Administration

50 CFR Part 648

[Docket No. 231215-0305; RTID 0648-XE552]

Fisheries of the Northeastern United States; Summer Flounder Fishery; 2024 Commercial Quota Harvested for the State of New York

AGENCY: National Marine Fisheries Service (NMFS), National Oceanic and Atmospheric Administration (NOAA), Commerce.

ACTION: Temporary rule; closure.

SUMMARY: NMFS announces that the 2024 summer flounder commercial quota allocated to the State of New York has been harvested. Vessels issued a commercial Federal fisheries permit for the summer flounder fishery may not land summer flounder in New York for the remainder of calendar year 2024, unless additional quota becomes available through a transfer from another state. Regulations governing the summer flounder fishery require publication of this notification to advise New York that the quota has been harvested, and to advise vessel permit holders and dealer permit holders that no Federal commercial quota is available for landing summer flounder in New York.

DATES: Effective 0001 hours December 21, 2024, through December 31, 2024.

FOR FURTHER INFORMATION CONTACT: Matthew Rigdon, (978) 281-9336, or Matthew.Rigdon@noaa.gov.

SUPPLEMENTARY INFORMATION: Regulations governing the summer flounder fishery are found at 50 CFR 648.100 through 648.111. The regulations require annual specification of a commercial quota that is apportioned on a percentage basis among the coastal states from Maine through North Carolina. The process to set the annual commercial quota and the percent allocated to each state is described in § 648.102.

The commercial quota for summer flounder for 2024 was set equal to 8,789,830 pounds (lb; 3,987,000 kilograms (kg)) (88 FR 88266, December 23, 2023). The amount allocated to vessels landing summer flounder in New York is 672,157 lb (304,885 kg).

The NMFS Regional Administrator for the Greater Atlantic Region monitors the state commercial landings and determines when a state's commercial quota has been harvested. NMFS is required to publish notification in the Federal Register advising and notifying commercial vessels and dealer permit holders that, effective upon a specific date, the state's commercial quota has been harvested and no commercial quota is available for landing summer flounder in that state. Based on dealer reports and other available information, the Regional Administrator has determined that the available quota has been harvested. The Marine Resources Division of the New York State Department of Environmental Conservation is closing the state fishery on December 21, 2024, and this action promotes consistency between the state and Federal management measures.

The regulations at 50 CFR 648.14(n) prohibit federally permitted vessels from landing summer flounder for sale in a state, and prohibit all persons from purchasing or otherwise receiving summer flounder for a commercial purpose after the effective date published in the Federal Register notification that commercial quota is no longer available in that state. Therefore, effective 0001 hours on December 21, 2024, landings of summer flounder in New York by vessels holding Federal summer flounder commercial fishery permits are prohibited for the remainder of the 2024 calendar year, unless additional quota becomes available through a transfer and is announced in the Federal Register. Effective 0001 hours on December 21, 2024, federally permitted dealers are also notified that they may not purchase summer flounder from federally permitted vessels that land in New York for the remainder of the calendar year, or until additional quota becomes available through a transfer from another state.

Classification

This action is required by 50 CFR part 648 and is exempt from review under Executive Order 12866.

The Assistant Administrator for Fisheries, NOAA, finds good cause pursuant to 5 U.S.C. 553(b)(B) to waive prior notice and the opportunity for public comment because it would be contrary to the public interest. This action closes the commercial summer flounder fishery for New York until January 1, 2025, under current regulations. The regulations at 50 CFR 648.103(b) require such action to ensure that summer flounder vessels do not exceed quotas allocated to the states. If implementation of this closure was delayed to solicit prior public comment, the quota for this fishing year will be exceeded, thereby undermining the conservation objectives of the Summer Flounder, Scup, and Black Sea Bass Fishery Management Plan. The Assistant Administrator further finds, pursuant to 5 U.S.C. 553(d)(3), good cause to waive the 30-day delayed effectiveness period for the reason stated above.

Authority: 16 U.S.C. 1801 et seq.

Dated: December 18, 2024.
Kelly Denit,
Director, Office of Sustainable Fisheries, National Marine Fisheries Service.

[FR Doc. 2024-30602 Filed 12-18-24; 4:15 pm]

BILLING CODE 3510-22-P